DEPARTMENT OF JUSTICE

Notice Of Lodging of Settlement Agreement

Notice is hereby given that on January 18, 2000, a proposed settlement agreement (“Settlement Agreement”) in In re Raymark Industries, Inc., Case No. 98-51540, was lodged with the United States Bankruptcy Court for the District of Connecticut. This proposed Settlement Agreement resolves certain claims among the United States, the Trustee of Raymark Industries, Inc., and Leach Family Holdings, Inc. (“Leach”) with respect to a Site known as the Raymark Industries, Inc. Supefund Site located in Stratford, Connecticut.

The Settlement Agreement provides for a payment, under the conditions specified in the Agreement, to Leach in the amount of up to $ 1.5 million from the proceeds of the sale of the portion of the Raymark Site owned by Raymark Industries, Inc.

The proposed Settlement Agreement may be examined at the office of the United States Attorney for the District of Connecticut, 915 Lafayette Blvd., Room 309, Bridgeport, Ct. 06604; and at the Region I office of the Environmental Protection Agency, 1 Congress St., Boston, Mass. 02114-2023. A copy of the proposed Settlement Agreement may also be obtained by mail from the Consent Decree Library, PO Box 7611, Washington, DC 20044. When requesting a copy please refer to the referenced case and enclose a check made payable to the Consent Decree Library in the amount of $3.50 (25 cents per page reproduction costs).

Joel M. Gross,
Section Chief, Environmental Enforcement Section, Environment and Natural Resources Division.

[FR Doc. 00-3112 Filed 2-9-00; 8:45 am]

BILLING CODE 4410-15-M